NUCLEAR REGULATORY COMMISSION

[Docket Nos. 50-277 and 50-278; NRC-2024-0214; SEIS-429-00-000-1734688863]

Constellation Energy Generation, LLC; Peach Bottom Atomic Power Station Units 2 and 3; Draft Supplement to Environmental Impact Statement

AGENCY: Nuclear Regulatory Commission.

ACTION: Request for comment; opportunity to request a hearing and to petition for leave to intervene.

SUMMARY: The U.S. Nuclear Regulatory Commission (NRC, the Commission) is issuing for public comment Generic Environmental Impact Statement for License Renewal of Nuclear Plants, Supplement 10, Second Renewal, Regarding Subsequent License Renewal (SLR) for Peach Bottom Atomic Power Station Units 2 and 3 (Peach Bottom), Supplement 1, Draft Report for Comment. This draft supplement to the 2020 final supplemental environmental impact statement (2020 final SEIS) concerns the NRC staff's review of the environmental impacts of the proposed SLR of Renewed Facility Operating License Nos. DPR-44 and DPR-56 for Peach Bottom Units 2 and 3, respectively, for an additional 20 years. Peach Bottom is located primarily in Peach Bottom Township, York County, Pennsylvania, near Delta, Pennsylvania. Possible alternatives to the proposed action of SLR include the no-action alternative and reasonable replacement power alternatives. A new notice of opportunity to request a hearing and petition for leave to intervene—limited to contentions based on new information in the draft supplement—is also being issued.

DATES: Members of the public are invited to submit comments by July 14, 2025. Comments received after this date will be considered if it is practical to do so, but the NRC is able to ensure consideration only for comments received on or before this date. Requests for a hearing or petitions for leave to intervene must be filed by July 29, 2025.

ADDRESSES: You may submit comments by any of the following methods; however, the NRC encourages electronic comment submission through the Federal rulemaking website:

• Federal rulemaking website: Go to https://www.regulations.gov and search for Docket ID NRC-2024-0214. Address questions about Docket IDs in Regulations.gov to Bridget Curran; telephone: 301-415-1003; email: Bridget.Curran@nrc.gov. For technical questions, contact the individual listed in the For Further Information Contact section of this document.

• Email: Comments may be submitted to the NRC electronically using the email address PeachBottom-SLRSEISS1@nrc.gov.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Kevin Folk, Senior Environmental Project Manager, Office of Nuclear Material Safety and Safeguards, U.S. Nuclear Regulatory Commission, Washington, DC 20555-0001; telephone: 301-415-6944; email: Kevin.Folk@nrc.gov.

SUPPLEMENTARY INFORMATION:

I. Obtaining Information and Submitting Comments

A. Obtaining Information

Please refer to Docket ID NRC-2024-0214 when contacting the NRC about the availability of information for this action. You may obtain publicly available information related to this action using any of the following methods:

• Federal Rulemaking Website: Go to https://www.regulations.gov and search for Docket ID NRC-2024-0214.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. Generic Environmental Impact Statement for License Renewal of Nuclear Plants, Supplement 10, Second Renewal, Regarding Subsequent License Renewal for Peach Bottom Atomic Power Station Units 2 and 3, Supplement 1, Draft Report for Comment is available in ADAMS under Accession No. ML25111A147. In addition, for the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. ET, Monday through Friday, except Federal holidays.

• Public Library: A copy of Generic Environmental Impact Statement for License Renewal of Nuclear Plants, Supplement 10, Second Renewal, Regarding Subsequent License Renewal for Peach Bottom Atomic Power Station Units 2 and 3, Supplement 1, Draft Report for Comment will be available for public review at the Harford County Public Library—Whiteford Branch, 2407 Whiteford Road, Whiteford, MD 21160.

B. Submitting Comments

The NRC encourages electronic comment submission through the Federal Rulemaking website (https://www.regulations.gov). Please include Docket ID NRC-2024-0214 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

By letter dated July 10, 2018, Exelon Generation Company, LLC (now Constellation Energy Generation, LLC (CEG)) submitted to the NRC an application, filed pursuant to section 103 of the Atomic Energy Act of 1954, as amended, and part 54 of title 10 of the Code of Federal Regulations (10 CFR), “Requirements for Renewal of Operating Licenses for Nuclear Power Plants,” for subsequent renewed facility operating licenses with expiration dates of August 8, 2053, for Peach Bottom, Unit 2 and July 2, 2054, for Peach Bottom, Unit 3, which are 20 years beyond when the current renewed facility operating licenses expire. The SLR application included an environmental report.

A notice of receipt of the Peach Bottom SLR application was published in the Federal Register on August 1, 2018 (83 FR 37529). A notice of acceptance for docketing of the application and opportunity to request a hearing was published in the Federal Register on September 6, 2018 (83 FR 45285). A notice of intent to conduct a scoping process and prepare a supplemental environmental impact statement (SEIS) was published in the Federal Register on September 10, 2018 (83 FR 45692). A notice of issuance of the draft SEIS and request for comment was published in the Federal Register on August 7, 2019 (84 FR 38676). A notice of issuance of the final SEIS (2020 final SEIS) was published in the Federal Register on January 31, 2020 (85 FR 5725). A notice of issuance of the subsequent renewed facility operating licenses was published in the Federal Register on March 11, 2020 (85 FR 14247). The issuance of the licenses was also supported by an NRC Record of Decision (ROD).

The 2020 final SEIS and the ROD documented the NRC staff's environmental review of the Peach Bottom SLR application, including its recommendation that the adverse environmental impacts of SLR for Peach Bottom are not so great that preserving the option of SLR for energy-planning decisionmakers would be unreasonable. As discussed in the 2020 final SEIS and the ROD, the NRC staff considered the reasonably foreseeable environmental impacts of SLR for Peach Bottom, as well as a range of reasonable alternatives to SLR. As part of its environmental review, the NRC staff relied upon Revision 1 of NUREG-1437, “Generic Environmental Impact Statement for License Renewal of Nuclear Plants” (2013 LR GEIS), to meet its obligations under the NRC's environmental protection regulations in 10 CFR part 51, “Environmental Protection Regulations for Domestic Licensing and Related Regulatory Functions,” and the National Environmental Policy Act of 1969, as amended. Specifically, for issues classified as Category 1 (generic to all or a distinct subset of nuclear power plants) in the 2013 LR GEIS, the NRC staff did not identify new and significant information and, therefore, relied upon the conclusions of the 2013 LR GEIS for all those issues applicable to Peach Bottom. For issues classified as Category 2 (specific to individual nuclear power plants) in the 2013 LR GEIS, the NRC staff evaluated those issues applicable to Peach Bottom in the draft and final SEIS.

III. Discussion

The NRC is issuing for public comment Generic Environmental Impact Statement for License Renewal of Nuclear Plants, Supplement 10, Second Renewal, Regarding Subsequent License Renewal for Peach Bottom Atomic Power Station Units 2 and 3, Supplement 1, Draft Report for Comment (draft supplement). The draft supplement updates Generic Environmental Impact Statement for License Renewal of Nuclear Plants, Supplement 10, Second Renewal, Regarding Subsequent License Renewal for Peach Bottom Atomic Power Station Units 2 and 3, Final Report, issued in January 2020 (2020 final SEIS). Specifically, the draft supplement includes the NRC staff's evaluation of new information available since the issuance of the 2020 final SEIS. This new information includes the NRC's publication of a final rule on August 6, 2024 (89 FR 64166), which revised the NRC's environmental protection regulation, 10 CFR part 51. This final rule updated the potential environmental impacts associated with the renewal of an operating license for a nuclear power plant for up to an additional 20 years, which could either be an initial license renewal or an SLR. The technical basis for the final rule is provided by Revision 2 of NUREG-1437, which was revised as part of the rulemaking as an update to the 2013 LR GEIS. The final rule also involved the issuance of Revision 2 of NUREG-1555, Supplement 1, “Standard Review Plans for Environmental Reviews for Nuclear Power Plants: Supplement 1: Operating License Renewal, Final Report,” and Revision 2 of Regulatory Guide 4.2, Supplement 1, “Preparation of Environmental Reports for Nuclear Power Plant License Renewal Applications.” The NRC staff also considered additional information provided by CEG. The NRC staff prepared the draft supplement in accordance with 10 CFR 51.92, “Supplement to the final environmental impact statement,” and Commission Legal Issuance (CLI)-22-02, CLI-22-03, and CLI-22-04, all dated February 24, 2022, that addressed the NRC staff's environmental reviews in SLR proceedings for five nuclear power plants, including Peach Bottom. The Commission concluded that the 2013 LR GEIS, on which the NRC staff had relied, in part, for its environmental reviews of the SLR applications for the affected nuclear power plants, did not consider SLR. Therefore, the Commission determined that these environmental reviews were inadequate. Accordingly, the Commission directed the NRC staff to leave the previously issued Peach Bottom subsequent renewed facility operating licenses (dated March 5, 2020) in place but to modify their expiration dates to reflect the end dates of the previous renewed facility operating licenses (i.e., August 8, 2033, for Peach Bottom, Unit 2 and July 2, 2034, for Peach Bottom, Unit 3), which the staff did on March 25, 2022. The Commission affirmed this direction in CLI-22-07.

In the draft supplement and in the 2020 final SEIS, the NRC staff's preliminary recommendation is that the adverse environmental impacts of SLR for Peach Bottom are not so great that preserving the option of SLR for energy-planning decisionmakers would be unreasonable. The NRC staff based this preliminary recommendation on the analysis and findings in Revision 2 of NUREG-1437, the environmental report submitted by Exelon Generation Company, LLC (now CEG), as supplemented, the NRC staff's consultation with Federal, State, Tribal, and local agencies, the NRC staff's independent environmental review, which is documented in the draft supplement and in the 2020 final SEIS, and the NRC staff's consideration of public comments received during scoping and on the 2020 final SEIS. Together, the draft supplement and the previously issued 2020 final SEIS evaluate all of the environmental impacts of continued operation during the SLR term for Peach Bottom, Unit 2 from August 8, 2033, to August 8, 2053, and for Peach Bottom, Unit 3 from July 2, 2034, to July 2, 2054.

IV. Availability of Documents

The documents identified in the following table are available to interested persons through ADAMS, as indicated.

Document description | ADAMS accession No.
Generic Environmental Impact Statement for License Renewal of Nuclear Plants, Supplement 10, Second Renewal, Regarding Subsequent License Renewal for Peach Bottom Atomic Power Station Units 2 and 3, Supplement 1, Draft Report for Comment, dated May 2025 | ML25111A147.
Generic Environmental Impact Statement for License Renewal of Nuclear Plants, Supplement 10, Second Renewal, Regarding Subsequent License Renewal for Peach Bottom Atomic Power Station Units 2 and 3, Final Report, dated January 2020 | ML20023A937.
Peach Bottom Atomic Power Station, Units 2 and 3, Renewed Facility Operating License Nos. DPR-44 and DPR-56, NRC Docket Nos. 50-277 and 50-278, Application for Subsequent Renewed Operating Licenses, dated July 10, 2018 | ML18193A689 (Package).
Record of Decision, U.S. Nuclear Regulatory Commission, Docket Nos. 50-277 and 50-278, Subsequent License Renewal Application for Peach Bottom Atomic Power Station, Units 2 and 3, dated March 4, 2020 | ML20024G429.
NUREG-1437, Generic Environmental Impact Statement for License Renewal of Nuclear Plants, Volumes 1-3, Revision 2, dated August 2024 | ML24087A133 (Package).
NUREG-1437, Generic Environmental Impact Statement for License Renewal of Nuclear Plants, Volumes 1-3, Revision 1, dated June 2013 | ML13107A023 (Package).
NUREG-1555, Supplement 1, Revision 2, Standard Review Plans for Environmental Reviews for Nuclear Power Plants, Supplement 1: Operating License Renewal, Final Report, dated August 2024 | ML23201A227.
Regulatory Guide 4.2, Supplement 1, Revision 2, Preparation of Environmental Reports for Nuclear Power Plant License Renewal Applications, dated August 2024 | ML23201A144.
U.S. Nuclear Regulatory Commission Memorandum and Order CLI-22-02, dated February 24, 2022 | ML22055A496.
U.S. Nuclear Regulatory Commission Memorandum and Order CLI-22-03, dated February 24, 2022 | ML22055A521.
U.S. Nuclear Regulatory Commission Memorandum and Order CLI-22-04, dated February 24, 2022 | ML22055A557.
Issuance of Subsequent Renewed Facility Operating License Nos. DPR-44 and DPR-56 for Peach Bottom Atomic Power Station, Units 2 and 3 (EPID NO. L-2018-RNW-0012), dated March 5, 2020 | ML20010F285.
Peach Bottom Atomic Power Station, Units 2 and 3—Modification to Subsequent Renewed Facility Operating License Nos. DPR-44 and DPR-56 In Conjunction with Commission Memorandum and Order CLI-22-04 (EPID L-2018-RNW-0012), dated March 25, 2022 | ML22073A207.
U.S. Nuclear Regulatory Commission Memorandum and Order CLI-22-07, dated June 3, 2022 | ML22154A217.

V. Opportunity To Request a Hearing and Petition for Leave To Intervene

As directed in CLI-22-03, with the completion of the draft supplement, a new notice of opportunity to request a hearing and petition for leave to intervene—limited to contentions based on new information in the draft supplement—is being issued.

Within 60 days after the date of publication of this notice, any person (petitioner) whose interest may be affected by this action may file a request for a hearing and petition for leave to intervene (petition) with respect to the action. Petitions shall be filed in accordance with the Commission's “Agency Rules of Practice and Procedure” in 10 CFR part 2. Interested persons should consult 10 CFR 2.309. If a petition is filed, the presiding officer will rule on the petition and, if appropriate, a notice of hearing will be issued.

Petitions must be filed no later than 60 days from the date of publication of this notice in accordance with the filing instructions in the “Electronic Submissions (E-Filing)” section of this document. Petitions and motions for leave to file new or amended contentions that are filed after the deadline will not be entertained absent a determination by the presiding officer that the filing demonstrates good cause by satisfying the three factors in 10 CFR 2.309(c)(1)(i) through (iii).

A State, local governmental body, Federally recognized Indian Tribe, or designated agency thereof, may submit a petition to the Commission to participate as a party under 10 CFR 2.309(h) no later than 60 days from the date of publication of this notice. Alternatively, a State, local governmental body, Federally recognized Indian Tribe, or agency thereof may participate as a non-party under 10 CFR 2.315(c).

For information about filing a petition and about participation by a person not a party under 10 CFR 2.315, see ADAMS Accession No. ML20340A053 (https://adamswebsearch2.nrc.gov/webSearch2/main.jsp?AccessionNumber=ML20340A053) and on the NRC's public website at https://www.nrc.gov/aboutnrc/regulatory/adjudicatory/hearing.html#participate.

VI. Electronic Submissions (E-Filing)

All documents filed in NRC adjudicatory proceedings, including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056) and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/esubmittals.html, by email to MSHD.Resource@nrc.gov, or by a tollfree call at 1-866-672-7640. The NRC Electronic Filing Help Desk is available between 9 a.m. and 6 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing dockets where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

Dated: May 22, 2025.
For the Nuclear Regulatory Commission.
John Moses,
Deputy Director, Division of Rulemaking, Environmental, and Financial Support, Office of Nuclear Materials Safety, and Safeguards.

[FR Doc. 2025-09637 Filed 5-29-25; 8:45 am]

BILLING CODE 7590-01-P